DEPARTMENT OF TRANSPORTATION

National Highway Traffic Safety Administration

[Docket No. NHTSA-2007-28734; Notice 2]

DaimlerChrysler Corporation, Grant of Petition for Decision of Inconsequential Noncompliance

DaimlerChrysler Corporation (DCC) ¹ has determined that certain model year (MY) 2007 motor vehicles do not comply with paragraph S4.3(d) of 49 CFR 571.110, Federal Motor Vehicle Safety Standard (FMVSS) No. 110, Tire Selection and Rims for Motor Vehicles With a GVWR of 4,536 Kilograms (10,000 pounds) or Less. DCC filed an appropriate report pursuant to 49 CFR Part 573, Defect and Noncompliance Responsibility and Reports identifying approximately 3,037 MY 2007 Dodge Dakota (Dakota) pickup trucks produced between May 8, 2006 and March 16, 2007 that do not comply with the paragraph of FMVSS No. 110 cited above.

¹ Now known as Chrysler, LLC.

Pursuant to 49 U.S.C. 30118(d) and 30120(h) and the rule implementing those provisions at 49 CFR Part 556, DCC has petitioned for an exemption from the notification and remedy requirements of 49 U.S.C. Chapter 301 on the basis that this noncompliance is inconsequential to motor vehicle safety. Notice of receipt of the petition was published, with a 30-day public comment period, on October 4, 2007 in the Federal Register (72 FR 56824). No comments were received. To view the petition and all supporting documents, log on to the Federal Docket Management System (FDMS) Web site at: http://www.regulations.gov/. Then follow the online search instructions to locate docket number “NHTSA-2007-28734.”

For further information on this decision, contact Mr. John Finneran, Office of Vehicle Safety Compliance, the National Highway Traffic Safety Administration (NHTSA), telephone (202) 366-0645, facsimile (202) 366-7097.

Paragraph S4.3(d) of FMVSS No. 110 requires in pertinent part that:

S4.3 Placard. Each vehicle, except for a trailer or incomplete vehicle, shall show the information specified in S4.3 (a) through (g), * * *

(d) Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation; * * *

By way of background, DCC explains that MY 2006 Dakotas were equipped with five P265/65R17 tires—the four tires installed on the vehicle at time of sale and the spare tire. The vehicle placard on the MY 2006 Dakota accurately reflected the sizes of the tires. DCC further explained that they decided to equip the subsequent MY 2007 Dakota with P265/60R18 tires. However, prior to the actual launch of the MY 2007 vehicles, DCC discovered that a P265/60R18 tire would not fit properly in the spare tire location on the vehicle. Therefore, DCC decided to retain the P265/65R17 tire as the spare tire, while going forward with the decision to use P265/60R18 tires as in-service original equipment. Unfortunately, the vehicle placards affixed to the subject MY 2007 Dakotas were not revised to reflect the decision to use the P265/65R17 spare tire; therefore, the vehicles do not comply with S4.3(d).

DCC argues that the noncompliance, the erroneous designation of the size of the spare tire on the vehicle placard, does not have any adverse safety impact. In DCC's estimation, the P265/60R18 tire and the P265/65R17 tire are equivalent. It supports this estimation by stating that the recommended cold tire inflation pressure specified on the vehicle placard—240 kPa (35 psi)—is appropriate for either P265/60R18 or P265/65R17 tires when mounted for service on the Dakota, and that the Tire & Rim Association Handbook confirms that the P265/65R17 spare tire supplied with the vehicles can carry more weight at 35 psi (2,124 pounds) than the P265/60R18 tire referred to on the erroneous vehicle placard (2,064 pounds).

DCC states that all other information provided on the 2007 Dakota vehicle placard is correct.

In summation, DCC states that it has corrected the problem that caused these errors so that they will not be repeated in future production and that it believes that because the noncompliance is inconsequential to motor vehicle safety that no corrective action is warranted.

NHTSA Decision

NHTSA agrees with DCC that the erroneous designation of the size of the spare tire on the placard affixed to the subject vehicles does not have any adverse safety implications. The intent of FMVSS No. 110 is to ensure that vehicles are equipped with tires appropriate to handle maximum vehicle loads and prevent overloading. The subject 2007 Dodge Dakota pickup trucks are equipped with four P265/60R18 tires that have a load rating of 2,064 pounds (de-rated by 1.1 when inflated to the recommended inflation pressure of 35 psi listed on the vehicle placard required by FMVSS No. 110). As required by FMVSS No. 110, these tires are appropriate for the vehicle's stated front and rear gross axle weight ratings. The same P265/60R18 tire size is listed on the placard for the spare tire. The actual spare tire provided with the vehicle is a P265/65R17. This tire has more load carrying capability, 2,124 pounds (de-rated by 1.1 at 35 psi), than the P265/60R18 tires. Both the actual provided spare tire and the spare tire indicated on the vehicle placard meet the FMVSS No. 110 loading requirements at the recommended cold inflation pressure of 35 psi. DCC is not aware of any customer complaints or field reports relating to this issue and stated that it has corrected the problem that caused these errors so that they will not be repeated in future production.

In consideration of the foregoing, NHTSA has decided that DCC has met its burden of persuasion that the labeling noncompliances described are inconsequential to motor vehicle safety. Accordingly, DCC's petition is granted and the petitioner is exempted from the obligation of providing notification of, and a remedy for, the noncompliances under 49 U.S.C. 30118 and 30120.

Authority: 49 U.S.C. 30118, 30120; delegations of authority at 49 CFR 1.50 and 501.8.

Issued on: February 26, 2008.
Daniel C. Smith,
Associate Administrator for Enforcement.

[FR Doc. E8-4045 Filed 2-29-08; 8:45 am]

BILLING CODE 4910-59-P